DEPARTMENT OF ENERGY

Federal Energy Regulatory Commission

Combined Notice of Filings

Take notice that the Commission has received the following Natural Gas Pipeline Rate and Refund Report filings:

Filings Instituting Proceedings

Docket Numbers: RP13-525-000.

Applicants: Gulf South Pipeline Company, LP.

Description: Negotiated Rate Agreement filing—Exelon 40468 to be effective 2/1/2013.

Filed Date: 2/1/13.

Accession Number: 20130201-5064.

Comments Due: 5 p.m. ET 2/13/13.

Docket Numbers: RP13-526-000.

Applicants: Gulf South Pipeline Company, LP.

Description: Scheduling of Combination Facilities to be effective 3/3/2013.

Filed Date: 2/1/13.

Accession Number: 20130201-5065.

Comments Due: 5 p.m. ET 2/13/13.

Docket Numbers: RP13-527-000.

Applicants: Boardwalk Storage Company, LLC.

Description: Order 587-V Compliance Filing to be effective 3/3/2013.

Filed Date: 2/1/13.

Accession Number: 20130201-5066.

Comments Due: 5 p.m. ET 2/13/13.

Docket Numbers: RP13-528-000.

Applicants: Northern Natural Gas Company.

Description: 20130201 Annual PRA Fuel Rates to be effective 4/1/2013.

Filed Date: 2/1/13.

Accession Number: 20130201-5122.

Comments Due: 5 p.m. ET 2/13/13.

Docket Numbers: RP13-529-000.

Applicants: Guardian Pipeline, L.L.C.

Description: NAESB 2.0 to be effective 4/1/2013.

Filed Date: 2/1/13.

Accession Number: 20130201-5160.

Comments Due: 5 p.m. ET 2/13/13.

Docket Numbers: RP13-530-000.

Applicants: Midwestern Gas Transmission Company.

Description: NAESB 2.0 to be effective 4/1/2013.

Filed Date: 2/1/13.

Accession Number: 20130201-5163.

Comments Due: 5 p.m. ET 2/13/13.

Docket Numbers: RP13-531-000.

Applicants: OkTex Pipeline Company, L.L.C.

Description: NAESB 2.0 to be effective 4/1/2013.

Filed Date: 2/1/13.

Accession Number: 20130201-5166.

Comments Due: 5 p.m. ET 2/13/13.

Docket Numbers: RP13-532-000.

Applicants: Viking Gas Transmission Company.

Description: NAESB 2.0 to be effective 4/1/2013.

Filed Date: 2/1/13.

Accession Number: 20130201-5167.

Comments Due: 5 p.m. ET 2/13/13.

Docket Numbers: RP13-533-000.

Applicants: Iroquois Gas Transmission System, L.P.

Description: 02/01/13 Negotiated Rates—Citigroup Energy Inc. (RTS)—6075-06 & 07 to be effective 2/1/2013.

Filed Date: 2/1/13.

Accession Number: 20130201-5205.

Comments Due: 5 p.m. ET 2/13/13.

Docket Numbers: RP13-534-000.

Applicants: Iroquois Gas Transmission System, L.P.

Description: 02/01/13 Negotiated Rates—JP Morgan Ventures Energy Corp (RTS)—6025-43 to be effective 2/1/2013.

Filed Date: 2/1/13.

Accession Number: 20130201-5206.

Comments Due: 5 p.m. ET 2/13/13.

Docket Numbers: RP13-535-000.

Applicants: Iroquois Gas Transmission System, L.P.

Description: 02/01/13 Negotiated Rates—Sequent Energy Management—(RTS)—3075-10 to be effective 2/1/2013.

Filed Date: 2/1/13.

Accession Number: 20130201-5208.

Comments Due: 5 p.m. ET 2/13/13.

Docket Numbers: RP13-536-000.

Applicants: ANR Pipeline Company.

Description: PXP Offshore to be effective 4/1/2013.

Filed Date: 2/1/13.

Accession Number: 20130201-5210.

Comments Due: 5 p.m. ET 2/13/13.

Docket Numbers: RP13-537-000.

Applicants: Iroquois Gas Transmission System, L.P.

Description: 02/01/13 Negotiated Rates—Spark Energy (RTS)—3045-16 to be effective 2/1/2013.

Filed Date: 2/1/13.

Accession Number: 20130201-5212.

Comments Due: 5 p.m. ET 2/13/13.

Docket Numbers: RP13-538-000.

Applicants: Iroquois Gas Transmission System, L.P.

Description: 02/01/13 Negotiated Rates—JP Morgan Ventures Corp (HUB)—6025-89 to be effective 2/1/2013.

Filed Date: 2/1/13.

Accession Number: 20130201-5213.

Comments Due: 5 p.m. ET 2/13/13.

Docket Numbers: RP13-539-000.

Applicants: Iroquois Gas Transmission System, L.P.

Description: 02/01/13 Negotiated Rates—Sequent Energy Management (HUB)—3075-89 to be effective 2/1/2013.

Filed Date: 2/1/13.

Accession Number: 20130201-5214.

Comments Due: 5 p.m. ET 2/13/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP13-378-001.

Applicants: Viking Gas Transmission Company.

Description: 2012 Housekeeping Compliance to be effective 1/22/2013.

Filed Date: 2/1/13.

Accession Number: 20130201-5180.

Comments Due: 5 p.m. ET 2/13/13.

Any person desiring to protest in any the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated February 4, 2013.
Nathaniel J. Davis, Sr.,
Deputy Secretary.

[FR Doc. 2013-03157 Filed 2-11-13; 8:45 am]

BILLING CODE 6717-01-P